ENVIRONMENTAL PROTECTION AGENCY

[EPA-HQ-OPP-2022-0223; FRL-11828-01-OCSPP]

Chlorpyrifos; Notice of Receipt of Request To Cancel Certain Pesticide Registrations and Amend Registrations To Terminate/Amend Certain Uses

AGENCY: Environmental Protection Agency (EPA).

ACTION: Notice.

SUMMARY: In accordance with the Federal Insecticide, Fungicide and Rodenticide Act (FIFRA), EPA is issuing a notice of receipt of request by the registrants in Table 3 of Unit II to voluntarily cancel registrations of certain products containing the pesticide chlorpyrifos or to amend their chlorpyrifos registrations to terminate/delete one or more uses. EPA intends to grant these requests at the close of the comment period for this announcement unless the Agency receives substantive comments within the comment period that would merit its further review of the requests or if the registrants withdraw their request to cancel these uses or products. If these requests are granted, any sale, distribution, or use of the products listed in this notice after the registrations have been cancelled or the uses have been terminated would need to be consistent with the terms as described in the final cancellation order.

DATES: Comments must be received on or before May 3, 2024.

ADDRESSES: The docket for this action, identified by docket identification (ID) number EPA-HQ-OPP-2022-0223, is available at https://www.regulations.gov. Additional instructions on visiting the docket, along with more information about dockets generally, are available at https://www.epa.gov/dockets. For the latest status information on EPA/DC services and docket access, visit https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through https://www.regulations.gov or email. Clearly mark the part or all of the information that you claim to be CBI. For CBI information in a disk or CD-ROM that you mail to EPA, mark the outside of the disk or CD-ROM as CBI, and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from the registrants in Table 3 of Unit II to cancel certain pesticide products or amend registrations by terminating certain uses registered under FIFRA section 3 (7 U.S.C. 136a) or 24(c) (7 U.S.C. 136v(c)). These registrations are listed in sequence by registration number in Table 1 and Table 2 of this Unit.

Unless the Agency determines that there are substantive comments that warrant further review of the requests or the registrants withdraw their requests, EPA intends to issue an order in the Federal Register canceling registrations and terminating uses as requested.

Table 1—Chlorpyrifos Product Registrations With Pending Requests for Termination of Specific Uses
Registration No. | Product name | Company | Uses to be terminated
81964-21 | Chlorpyrifos 61.5% MUP | Chemstarr, LLC | Food processing plants (food and non-food areas).
84229-20 | Chlorpyrifos 4 EC | Tide International | Food uses: Alfalfa, apple tree trunk, asparagus. Brassica (Cole) leafy vegetables: Radish, rutabaga, turnip; cauliflower; broccoli, Brussels sprout, cabbage, Chinese cabbage, collards, kale, kohlrabi; citrus; calamondin, chironja, citrus citron, citrus hybrids, grapefruit, kumquat, lemon, lime, mandarin (tangerine), pummelo, Satsuma mandarin, sour orange, sweet orange, tangelo, tangor; corn (field and sweet); cotton; cranberry; legume vegetable: Adzuki bean, bean, blackeyed pea, broad bean (dry and succulent), catjang, chickpea, cowpea, crowder pea, English pea, field bean, field pea, garden pea, grain lupin, green pea, guar, lima bean (dry and green), kidney bean, lablab bean, lentil, moth bean, mung bean, navy bean, pea, pigeon pea, pinto bean, rice bean, southern pea, sweet lupin, tepary bean, urd bean, white lupin, white sweet lupin; onion (dry bulb); peanut; peppermint; sorghum (grain sorghum (milo)); soybean; spearmint; sugarbeet; sunflower; sweet potato; tree fruits: cherry, nectarine, peach, pear, plum, and prune; tree nuts: almonds, filbert, pecan and walnut; and wheat.

Table 2—Chlorpyrifos Product Registrations With Pending Requests for Cancellation
EPA Registration No. | Product name | Company | Active ingredients
89459-72 | Equil Chlorpyrifos ULV 1 | Central Garden & Pet | Chlorpyrifos.
89459-73 | Equil Chlorpyrifos ULV 2 | Central Garden & Pet | Chlorpyrifos.

Table 3—Registrants Requesting Voluntary Cancellation or Termination of Uses
EPA Company No. | Company name and address
81964 | Chemstarr, LLC, Agent Name: Pyxis Regulatory Consulting, Inc., 4110 136th Street Ct. NW, Gig Harbor, WA 98332.
84229 | Tide International USA, Inc., Agent Name: Pyxis Regulatory Consulting, Inc., 4110 136th Street Ct. NW, Gig Harbor, WA 98332.
89459 | Central Garden & Pet, 1501 E Woodfield Rd., Suite 200W, Schaumburg, IL 60173.

III. What is the Agency's authority for taking these actions?

Section 6(f)(1) of FIFRA (7 U.S.C. 136d(f)(1)) provides that a registrant of a pesticide product may at any time request that any of its pesticide registrations be canceled or to cancel registered uses for a pesticide. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrant requests a waiver of the comment period, or

2. The EPA Administrator determines that continued use of the pesticide would pose an unreasonable adverse effect on the environment.

The registrants in Table 3 of Unit II have requested that EPA waive the 180-day comment period. Accordingly, EPA is providing a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are in the United States and that were packaged, labeled, and released for shipment prior to the effective date of the cancellation action.

If the requests for voluntary cancellation and amendments to terminate uses are granted, the Agency intends to publish a final cancellation order in the Federal Register. In that order, EPA proposes to include the following provisions for the treatment of any existing stocks of the products listed in Tables 1 and 2 of Unit II.

Upon cancellation of the products identified in Table 2 of Unit II, the sale and distribution of these products will be prohibited, except for export consistent with FIFRA section 17 or for proper disposal. Use of existing stocks would be permitted until exhausted.

EPA is proposing to allow use of existing stocks of chlorpyrifos products identified in Table 1 of Unit II as follows: The sale and distribution of existing stocks would be permitted through April 30, 2025. After that date, products identified in Table 1 would not be allowed to be sold or distributed, unless none of the terminated uses appears on the product's labeling.

Use of existing stocks would be permitted through June 30, 2025. After that date, products identified in Table 1 would be allowed to be used only for non-food uses to the extent permitted by the label.

Authority: 7 U.S.C. 136 et seq.

Dated: March 29, 2024.
Timothy Kiely,
Acting Director, Pesticide Re-Evaluation Division, Office of Pesticide Programs.

[FR Doc. 2024-07078 Filed 4-2-24; 8:45 am]

BILLING CODE 6560-50-P